ENVIRONMENTAL PROTECTION AGENCY

[FRL-8914-7]

Office of Research and Development; Ambient Air Monitoring Reference and Equivalent Methods: Designation of Four New Equivalent Methods

AGENCY: Environmental Protection Agency.

ACTION: Notice of the designation of four new equivalent methods for monitoring ambient air quality.

SUMMARY: Notice is hereby given that the Environmental Protection Agency (EPA) has designated, in accordance with 40 CFR Part 53, four new equivalent methods for measuring concentrations of PM2.5 in the ambient air.

FOR FURTHER INFORMATION CONTACT: Surender Kaushik, Human Exposure and Atmospheric Sciences Division (MD-D205-03), National Exposure Research Laboratory, U.S. EPA, Research Triangle Park, North Carolina 27711. Phone: (919) 541-5691, e-mail: Kaushik.Surender@epa.gov.

SUPPLEMENTARY INFORMATION: In accordance with regulations at 40 CFR Part 53, the EPA evaluates various methods for monitoring the concentrations of those ambient air pollutants for which EPA has established National Ambient Air Quality Standards (NAAQSs) as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of four new equivalent methods for measuring concentrations of PM2.5 in the ambient air. These designations are made under the provisions of 40 CFR Part 53, as amended on October 17, 2006 (71 FR 61271).

Two of the new equivalent methods for PM2.5 are automated methods (analyzers) utilizing the measurement principle based on filter sample collection and analysis by an inertial micro-balance that provides direct mass measurements in near real time. Separation of the PM2.5 particle size range is by a cyclone in the first method and by a virtual impactor in the second method. These two newly designated equivalent methods are identified as follows:

EQPM-0609-181, “Thermo Scientific TEOM® 1400a Ambient Particular Monitor with Series 8500C FDMS™,” configured for PM2.5 with the US EPA PM10 inlet specified in 40 CFR Part 50, Appendix L, Figs. L-2 thru L-19, followed by a BGI Inc. Very Sharp Cut Cyclone (VSCC™) particle size separator, operated with a total actual flow of 16.67/min., loaded with Series FDMS (Filter Dynamics Measurement System) 8500 module operating software and an FDMS kit, and operated with firmware version 3.20 and later, according to the Thermo Scientific TEOM® 1400a Ambient Particular Monitor with Series 8500C FDMS™ operating manual.

EQPM-0609-182, “Thermo Scientific TEOM® 1405-DF Dichotomous Ambient Particular Monitor with FDMS®,” configured for dual filter sampling of fine (PM2.5) and coarse particles using the US EPA PM10 inlet specified in 40 CFR Part 50, Appendix L, Figs. L-2 thru L-19 and a virtual impactor, with a total flow rate of 16.67 L/min, fine sample flow of 3 L/min, and coarse sample flow rate of 1.67 L/min, and operating with firmware version 1.50 and later, operated with or without external enclosures, and operated in accordance with the Thermo Scientific TEOM® 1405-DF Dichotomous Ambient Particulate Monitor Instruction Manual (designated for PM2.5 measurements only).

The other two new equivalent methods for PM2.5 are automated methods (analyzers) utilizing the measurement principle based on cyclonic separation of the PM2.5 particle size range with filter sample collection and analysis by beta attenuation. The newly designated equivalent methods are identified as follows:

EQPM-0609-183, “Thermo Scientific FH62C14-DHS Continuous Ambient Particle Monitor” operated at a flow rate of 16.67 liters per minute for 24-hour average measurements configured for PM2.5 with a louvered PM10 size selective inlet as specified in 40 CFR Part 50, Appendix L, Figs. L-2 through L-19, a PM2.5 BGI Inc. Very Sharp Cut Cyclone (VSCC™) particle size separator, inlet connector, sample tube, DHS heater with 35% RH threshold, mass foil kit, GF10 filter tape, 8-hour filter change, and operational calibration and servicing as outlined in the FH62C14-DHS Continuous Ambient Particulate Monitor operating manual.

EQPM-0609-184, “Thermo Scientific Model 5030 SHARP Monitor” operated at a flow rate of 16.67 liters per minute for 24-hour average measurements configured for PM2.5 with a louvered PM10 size selective inlet as specified in 40 CFR Part 50, Appendix L, Figs. L-2 through L-19, a PM2.5 BGI Inc. Very Sharp Cut Cyclone (VSCC™) particle size separator, inlet connector, sample tube, DHS heater with 35% RH threshold, mass foil kit, GF10 filter tape, nephelometer zeroing kit, 8-hour filter change, and operational calibration and servicing as outlined in the Model 5030 SHARP instructional manual.

Applications for equivalent method determinations for these candidate methods were received by the EPA on June 30, 2008 and July 14, 2008. The monitors are commercially available from the applicant, Thermo Fisher Scientific, Air Quality Instruments, Environmental Instruments Division, 27 Forge Parkway, Franklin, MA 02038.

Test analyzers representative of these methods have been tested in accordance with the applicable test procedures specified in 40 CFR Part 53 (as amended on October 17, 2006). After reviewing the results of those tests and other information submitted by the applicant in the respective applications, EPA has determined, in accordance with Part 53, that these methods should be designated as equivalent methods. The information submitted by the applicant in the respective applications will be kept on file, either at EPA's National Exposure Research Laboratory, Research Triangle Park, North Carolina 27711 or in an approved archive storage facility, and will be available for inspection (with advance notice) to the extent consistent with 40 CFR Part 2 (EPA's regulations implementing the Freedom of Information Act).

As designated equivalent methods, these methods are acceptable for use by states and other air monitoring agencies under the requirements of 40 CFR Part 58, Ambient Air Quality Surveillance. For such purposes, each method must be used in strict accordance with the operation or instruction manual associated with the method and subject to any specifications and limitations (e.g., configuration or operational settings) specified in the applicable designated method description (see the identifications of the methods above).

Use of the method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008 (available at http://www.epa.gov/ttn/amtic/qabook.html). Vendor modifications of a designated equivalent method used for purposes of Part 58 are permitted only with prior approval of the EPA, as provided in Part 53. Provisions concerning modification of such methods by users are specified under Section 2.8 (Modifications of Methods by Users) of Appendix C to 40 CFR Part 58.

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of these new equivalent methods is intended to assist the States in establishing and operating their air quality surveillance systems under 40 CFR Part 58. Questions concerning the commercial availability or technical aspects of the method should be directed to the applicant.

Dated: June 1, 2009.
Jewel F. Morris,
Acting Director, National Exposure Research Laboratory.

[FR Doc. E9-14231 Filed 6-16-09; 8:45 am]

BILLING CODE 6560-50-P